DEPARTMENT OF HEALTH AND HUMAN SERVICES

Centers for Disease Control and Prevention

Disease, Disability, and Injury Prevention and Control Special Interest Projects (SIPs): Initial Review

The meeting announced below concerns “Systematic Review of Effective Community-based Interventions of Clinical Preventive Services for Older Adults SIP11-045, and Measuring Impact of Multi-Component Interventions to Prevent Older Adult Falls and Assessing Sustainability and Scalability, SIP 11-046, Panel D,” initial review.

In accordance with Section 10(a)(2) of the Federal Advisory Committee Act (Pub. L. 92-463), the Centers for Disease Control and Prevention (CDC) announces the aforementioned meeting:

Time and Date: 11 a.m.-5 p.m., June 16, 2011 (Closed).

Place: Teleconference.

Status: The meeting will be closed to the public in accordance with provisions set forth in Section 552b(c) (4) and (6), Title 5 U.S.C., and the Determination of the Director, Management Analysis and Services Office, CDC, pursuant to Public Law 92-463.

Matters To Be Discussed: The meeting will include the initial review, discussion, and evaluation of “Systematic Review of Effective Community-based Interventions of Clinical Preventive Services for Older Adults SIP11-045, and Measuring Impact of Multi-Component Interventions to Prevent Older Adult Falls and Assessing Sustainability and Scalability, SIP 11-046, Panel D”, initial review.

Contact Person for More Information: Brenda Colley Gilbert, PhD, M.P.H., Director, Extramural Research Program Office, National Center for Chronic Disease Prevention and Health Promotion, CDC, 4770 Buford Highway, NE., Mailstop K-92, BJC4@cdc.gov.

The Director, Management Analysis and Services Office, has been delegated the authority to sign Federal Register notices pertaining to announcements of meetings and other committee management activities, for both the Centers for Disease Control and Prevention and the Agency for Toxic Substances and Disease Registry.

Dated: May 5, 2011.
Elaine L. Baker,
Director, Management Analysis and Services Office, Centers for isease Control and Prevention.

[FR Doc. 2011-12071 Filed 5-16-11; 8:45 am]

BILLING CODE 4163-18-P